DEPARTMENT OF HOMELAND SECURITY

Federal Emergency Management Agency

44 CFR Part 67

[Docket ID FEMA-2011-0002; Internal Agency Docket No. FEMA-B-1178]

Proposed Flood Elevation Determinations

AGENCY: Federal Emergency Management Agency, DHS.

ACTION: Proposed rule; correction.

SUMMARY: On February 16, 2011, FEMA published in the Federal Register a proposed rule that contained an erroneous table. This notice provides corrections to that table, to be used in lieu of the information published. The table provided here represents the flooding sources, location of referenced elevations, effective and modified elevations, and communities affected for Bolivar County, Mississippi, and Incorporated Areas. Specifically, it addresses the following flooding sources: Jones Bayou, Mississippi River, and Porter Bayou.

DATES: Comments are to be submitted on or before November 5, 2012.

ADDRESSES: You may submit comments, identified by Docket No. FEMA-B-1178, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 76 FR 8965 in the February 16, 2011, issue of the Federal Register, FEMA published a table under the authority of 44 CFR 67.4. The table, entitled “Bolivar County, Mississippi, and Incorporated Areas” addressed the following flooding sources: Jones Bayou, Mississippi River, and Porter Bayou. That table contained inaccurate information as to the location of referenced elevation, effective and modified elevation in feet, and/or communities affected for Jones Bayou. In this notice, FEMA is publishing a table containing the accurate information, to address these prior errors. The information provided below should be used in lieu of that previously published.

Flooding source(s) | Location of referenced elevation | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Bolivar County, Mississippi, and Incorporated Areas
Jones Bayou | Approximately 0.5 mile downstream of Tower Road | +134 | +135 | City of Cleveland, Unincorporated Areas of Bolivar County.
| Approximately 1,146 feet upstream of West Rosemary Road | +137 | +138
Mississippi River | Approximately 5.5 miles upstream of the Arkansas River confluence | None | +161 | City of Rosedale.
| Approximately 8.1 miles upstream of the Arkansas River confluence | None | +162
Porter Bayou | Approximately 0.8 mile downstream of State Route 448 | None | +127 | City of Shaw.
| Approximately 0.7 mile downstream of State Route 448 | None | +127
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Cleveland
Maps are available for inspection at the Public Works Department, 1089 Old Highway 61 North, Cleveland, MS 38732.
City of Rosedale
Maps are available for inspection at City Hall, 304 Court Street, Rosedale, MS 38769.
City of Shaw
Maps are available for inspection at City Hall, 101 Faison Street, Shaw, MS 38773.
Unincorporated Areas of Bolivar County
Maps are available for inspection at the Bolivar County Administrator Office, 200 South Court Street, Cleveland, MS 38732.

Dated: July 18, 2012.
Sandra K. Knight,
Deputy Associate Administrator for Mitigation, Department of Homeland Security, Federal Emergency Management Agency.

[FR Doc. 2012-19223 Filed 8-6-12; 8:45 am]

BILLING CODE 9110-12-P